DEPARTMENT OF COMMERCE

International Trade Administration

[A-588-703]

Continuation of Antidumping Duty Order: Internal Combustion Forklift Trucks From Japan

AGENCY: Import Administration, International Trade Administration, Department of Commerce.

ACTION: Notice of Continuation of Antidumping Duty Order: Internal Combustion Forklift Trucks from Japan.

SUMMARY: On August 5, 1999, the Department of Commerce (“the Department”), pursuant to sections 751(c) and 752 of the Tariff Act of 1930, as amended (“the Act”), determined that revocation of the antidumping duty order on internal combustion forklift trucks from Japan is likely to lead to continuation or recurrence of dumping (64 FR 42662). On April 10, 2000, the International Trade Commission (“the Commission”), pursuant to section 751(c) of the Act, determined that revocation of the antidumping duty order on internal combustion forklift trucks from Japan would be likely to lead to continuation or recurrence of material injury to an industry in the United States within a reasonably foreseeable time (65 FR 19022). Therefore, pursuant to 19 CFR 351.218(f)(4), the Department is publishing notice of the continuation of the antidumping duty order on internal combustion forklift trucks from Japan.

Effective Date: April 17, 2000.

FOR FURTHER INFORMATION CONTACT: Kathryn B. McCormick or James Maeder, Office of Policy for Import Administration, International Trade Administration, U.S. Department of Commerce, 14th Street and Constitution Ave., NW, Washington, DC 20230; telephone: (202) 482-1930 or (202) 482-3330, respectively.

SUPPLEMENTARY INFORMATION:

Background

On April 1, 1999, the Department initiated, and the Commission instituted, a sunset review (64 FR 15727 and 64 FR 15786, respectively) of the antidumping duty order on internal combustion forklift trucks from Japan, pursuant to section 751(c) of the Act. As a result of its review, the Department found that revocation of the antidumping duty order would likely lead to continuation or recurrence of dumping and notified the Commission of the magnitude of the margin likely to prevail were the order to be revoked (see Final Results of Expedited Sunset Review: Internal Combustion Forklift Trucks from Japan, August 5, 1999 (65 FR 42662)).

On April 10, 2000, the Commission determined, pursuant to section 751(c) of the Act, that revocation of the antidumping duty order on internal combustion forklift trucks from Japan would be likely to lead to continuation or recurrence of material injury to an industry in the United States within a reasonably foreseeable time (see Final Results of Expedited Sunset Review: Internal Combustion Forklift Trucks from Japan, 65 FR 19022 (April 10, 2000) and USITC Publication 3287, Investigation No. 731-TA-377 (Review) (April 2000)).

Scope

The merchandise subject to this antidumping duty order is internal combustion industrial forklift trucks, with lifting capacity of 2,000 to 5,000 pounds, from Japan. The products covered are described as follows: assembled, not assembled, and less than complete, finished and not finished, operator-riding forklift trucks powered by gasoline, propane, or diesel fuel internal-combustion engines of off-the-highway types used in factories, warehouses, or transportation terminals for short-distance transport, towing, or handling of articles (see Certain Internal Combustion Industrial Forklift Trucks from Japan; Final Results of Antidumping Duty Administrative Review, 62 FR 5592 (February 6, 1997)). Less than complete forklift trucks are defined as imports which include a frame by itself or a frame assembled with one or more component parts. Component parts of the subject forklift trucks which are not assembled with a frame are not covered by this order. Imports of these products were previously classified under items numbers 692.4025, 692.4030 and 692.4070 of the Tariff Schedules of the United States Annotated; currently, they classifiable under Harmonized Tariff Schedule of the United States (“HTSUS”) item numbers 8427.20.00, 8427.90.00, and 8431.20.00. Although the HTSUS subheadings are provided for convenience and customs purposes, the written description remains dispositive.

Determination

As a result of the determination by the Department and the Commission that revocation of the antidumping duty order would be likely to lead to continuation or recurrence of dumping and material injury to an industry in the United States, pursuant to section 751(d)(2) of the Act, the Department hereby orders the continuation of the antidumping duty order on internal combustion forklift trucks from Japan. The Department will instruct the U.S. Customs Service to continue to collect antidumping duty deposits at the rates in effect at the time of entry for all imports of subject merchandise.

Normally, the effective date of continuation of a finding, order, or suspension agreement will be the date of publication in the Federal Register of the Notice of Continuation. As provided in 19 CFR 351.218(f)(4), the Department normally will issue its determination to continue a finding, order, or suspended investigation not later than seven days after the date of publication in the Federal Register of the Commission's determination concluding the sunset review and, immediately thereafter, will publish its notice of continuation in the Federal Register. In the instant case, however, the Department's publication of the Notice of Continuation was delayed. Therefore, the Department has explicitly indicated that the effective date of continuation of this order is April 17, 2000, seven days after the date of publication in the Federal Register of the Commission's determination. As a result, pursuant to sections 751(c)(2) and 751(c)(6) of the Act, the Department intends to initiate the next five-year review of this order not later than March 2005.

Dated: May 26, 2000.
Troy H. Cribb,
Acting Assistant Secretary for Import Administration.

[FR Doc. 00-13879 Filed 6-1-00; 8:45 am]

BILLING CODE 3510-DS-P